DEPARTMENT OF TRANSPORTATION

Federal Aviation Administration

Notice of Passenger Facility Charge (PFC) Approvals and Disapprovals

AGENCY: Federal Aviation Administration (FAA), DOT.

ACTION: Monthly Notice of PFC Approvals and Disapprovals. In February 2003, there were seven applications approved. This notice also includes information on two applications, one approved in December, 2002, and the other approved in January 2003, inadvertently left off the December 2002 and January 2003 notices, respectively. Additionally, 11 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph (d) of § 158.29.

PFC Applications Approved

Public Agency: Palm Beach County, Department of Airports, West Palm Beach, Florida.

Application Number: 02-07-C-00-PBI.

Application Type: Impose and use a PFC.

PFC Level: $3.00.

Total PFC Revenue Approved in this Decision: $22,400,000.

Earliest Charge Effective Date: April 1, 2004.

Estimated Charge Expiration Date: January 1, 2007.

Class of Air Carriers Not Required to Collect PFC'S: Air taxi/commercial operators filing FAA Form 1800-31.

Determination: Approved. Based on information contained in the public agency's application, the FAA has determined that the approved class accounts for less than 1 percent of the total annual enplanements at Palm Beach International Airport.

Brief Description of Projects Approved for Collection and Use:

Construct security facilities.

Demolition of Delta building.

Brief Description of Projects Approved for Collection:

Apron A expansion.

Replace concourse B passenger loading bridges.

Replace concourse C passenger loading bridges.

Brief Description of Projects Approved for Use:

Terminal signage.

Rehabilitate cabin air system.

Acquire noise land within 65-69 DNL.

Expand terminal concourse C

Decision Date: December 13, 2002.

FOR FURTHER INFORMATION CONTACT: Matthew J. Thys, Orlando Airports District Office, (407) 812-6331.

Public Agency: Metropolitan Nashville Airport Authority, Nashville, Tennessee.

Application Number: 03-10-C-00-BNA.

Application Type: Impose and use a PFC.

PFC Level: $3.00.

Total PFC Revenue Approved in this Decision: $8,855,000.

Earliest Charge Effective Date: October 1, 2004.

Estimated Charge Expiration Date: April 1, 2007.

Class of Air Carriers Not Required to Collect PFC'S: Part 135 (air taxi) operators.

Determination: Approved. Based on information contained in the public agency's application, the FAA has determined that the approved class accounts for less than 1 percent of the total annual enplanements at Nashville International Airport.

Brief Description of Projects Approved for Collection and Use:

Land acquisition.

Land acquisition.

Public address system.

Airfield pavement rehabilitation.

Widen three taxiway fillets.

Airport vehicle driving simulator.

1500 gallon aircraft rescue and firefighting (ARFF) vehicle.

Brief Description of Project Partially Approved for Collection and Use: Security enhancements.

Determination: Consistent with standard practice, the FAA consulted with the Transportation Security Administration (TSA) about justification for the individual elements of this project. The TSA found no justification for one element in this project and that element was not approved.

Decision Date: January 14, 2003.

FOR FURTHER INFORMATION CONTACT: Cynthia K. Wills, Memphis Airports District Office, (901) 544-3495.

Public Agency: City of Brownsville, Texas.

Application Number: 03-02-C-00-BRO.

Application Type: Impose and use a PFC.

PFC Level: $4.50.

Total PFC Revenue Approved in this Decision: $1,421,192.

Earliest Charge Effective Date: May 1, 2003.

Estimated Charge Expiration Date: June 1, 2008.

Class of Air Carriers Not Required To Collect PFC'S: None.

Brief Description of Projects Approved for Collection and Use:

Acquire two commercial passenger bridges and a walkway.

Replace ARFF station and acquire two ARFF vehicles.

Upgrade security equipment.

Conduct planning study.

Reconstruct taxiway H.

Reconstruct terminal apron.

Rehabilitate taxiway edge lighting.

Expand cargo apron.

Seal coat taxiways.

Improve airfield drainage.

Acquire land.

PFC application and administrative fees.

Decision Date: February 7, 2003.

FOR FURTHER INFORMATION CONTACT: G. Thomas Wade, Southwest Region Airports Division, (817) 222-5613.

Public Agency: City of Durango and Board of County Commissioners, LaPlata County, Durango, Colorado.

Application Number: 02-04-U-00-DRO.

Application Type: Use PFC revenue.

PFC Level: $3.00

Total PFC Revenue To Be Used in This Decision: $533,333.

Charge Effective Date: August 1, 2000.

Estimated Charge Expiration Date: March 1, 2003.

Class of Air Carriers Not Required To Collect PFC'S. No change from previous approval:

Brief Description of Projects Approved for Use:

Rehabilitate runway 2/20.

Install distance-remaining signs.

Decision Date: February 10, 2003.

FOR FURTHER INFORMATION CONTACT: Christopher Schaffer, Denver Airports District Office, (303) 342-1258

Public Agency: Capital Region Airport Commission, Richmond, Virginia.

Application Number: 03-05-C-00-RIC.

Application Type: Impose and use a PFC.

PFC Level: $3.00.

Total PFC Revenue Approved in this Decision: $6,032,887.

Earliest Charge Effective Date: September 1, 2016.

Estimated Charge Expiration Date: May 1, 2025.

Class of Air Carriers Not Required To Collect PFC's: Part 135 on-demand air taxi/commercial operators.

Determination: Approved. Based on information contained in the public agency's application, the FAA has determined that the approved class accounts for less than 1 percent of the total annual enplanements at Richmond International Airport.

Brief Description of Projects Approved for Collection and Use:

Extend taxiway A.

Terminal Drive flyover and access roads.

Renovate existing concourses A, B, and C.

Brief Description of Project Approved for Use: Terminal building addition and modification.

Decision Date: February 10, 2003.

FOR FURTHER INFORMATION CONTACT: Arthur Winder, Washington Airports District Office, (703) 661-1363.

Public Agency: City of Thief River Falls, Minnesota.

Application Number: 03-01-C-00-TVF.

Application Type: Impose and use a PFC.

PFC Level: $4.50.

Total PFC Revenue Approved in this Decision: $636,828.

Earliest Charge Effective Date: June 1, 2003.

Estimated Charge Expiration Date: June 1, 2023.

Class of Air Carriers Not Required To Collect PFC's: Non-scheduled/on-demand carriers.

Determination: Approved. Based on information contained in the public agency's application, the FAA has determined that the approved class accounts for less than 1 percent of the total annual enplanements at Thief River Falls Regional Airport.

Brief Description of Projects Approved for Collection and Use:

Rehabilitate runway 13/31.

Install airport signs and miscellaneous taxiway lights.

Overlay parallel taxiway, general aviation taxiway, and the air transport apron.

Acquire ARFF vehicle.

Reconstruct commercial aircraft parking apron.

Construct crosswind runway.

Construct parallel and connecting taxiways.

PFC application.

Rehabilitate apron.

Install deer fence.

Rehabilitate non-revenue automobile parking lot (including airport entrance road).

Decision Date: February 19, 2003.

FOR FURTHER INFORMATION CONTACT: Gordon Nelson, Minneapolis Airports District Office, (612) 713-4358.

Public Agency: County of Humboldt, Arcata, California.

Application Number: 03-05-C-00-ACV.

Application Type: Impose and use a PFC.

PFC Level: $4.50.

Total PFC Revenue Approved in this Decision: $93,000.

Earliest Charge Effective Date: June 1, 2003.

Estimated Charge Expiration Date: July 1, 2003.

Class of Air Carriers Not Required To Collect PFC's: None.

Brief Description of Project Approved for Collection and Use: Install security/perimeter fence.

Decision Date: February 21, 2003.

FOR FURTHER INFORMATION CONTACT: Marlys Vandervelde, San Francisco Airports District Office, (650) 876-2806.

Public Agency: Jacksonville Airport Authority, Jacksonville, Florida.

Application Number: 03-08-C-00-JAX.

Application Type: Impose and use a PFC.

PFC Level: $4.50.

Total PFC Revenue Approved in This Decision: $68,357,263.

Earliest Charge Effective Date: May 1, 2003.

Estimated Charge Expiration Date: November 1, 2008.

Class of Air Carriers Not Required To Collect PFC'S: Air taxi operators.

Determination: Approved. Based on information contained in the public agency's application, the FAA has determined that the approved class accounts for less than 1 percent of the total annual enplanements at Jacksonville International Airport.

Brief Description of Project Approved for Collection and Use at a $3.00 PFC Level: Renovation and expansion of landside terminal area, stage 1.

Brief Description of Project Approved for Collection and Use at a $4.50 PFC Level:

Checked baggage explosive detection system (terminal modifications and conveyor system to support explosive detection equipment).

Access control and communication center upgrade.

Centralized security checkpoint west courtyard.

Decision Date: February 26, 2003.

FOR FURTHER INFORMATION CONTACT: Richard Owen, Orlando Airports District Office, (407) 812-6331, extension 19.

Public Agency: City of Chicago, Department of Aviation, Chicago, Illinois.

Application Number: 03-15-C-00-ORD.

Application Type: Impose and use a PFC.

PFC Level: $4.50.

Total PFC Revenue Approved in This Decision: $233,267,300.

Earliest Charge Effective Date: April 1, 2017.

Estimated Charge Expiration Date: December 1, 2018.

Class of Air Carriers Not Required To Collect PFC'S: Air taxi.

Determination: Approved. Based on information contained in the public agency's application, the FAA has determined that the approved class accounts for less than 1 percent of the total annual enplanements at Chicago O'Hare International Airport (ORD).

Brief Description of Projects Partially Approved for Collection at ORD and Use at ORD at a $4.50 PFC Level: Runway formulation.

Determination: Partially approved. After submission of the PFC application, the public agency elected to fund a portion of the project with Airport Improvement Program (AIP) entitlement funds. Therefore, the approved PFC amount is less than what was requested.

School Soundproofing, 2002-2003

Determination: Partially approved. After submission of the PFC application, the public agency deleted two proposed schools from the project. Therefore, the approved PFC amount is less than what was requested.

Brief Description of Project Partially Approved for Collection at ORD and Use at ORD at a $3.00 PFC Level: Equipment acquisition, 2001-2003.

Determination: Partially approved. The FAA approved 7 of the requested 22 pieces of equipment. The pieces not approved were determined not to be AIP or PFC eligible.

Brief Description of Projects Approved for Collection at ORD and Use at Chicago/Gary Airport at a $3.00 PFC Level:

Acquire snow removal equipment (snow broom).

Expand snow removal equipment building.

Rehabilitate runway 12/30.

Terminal apron expansion and loading bridge installation.

Decision Date: February 28, 2003.

FOR FURTHER INFORMATION CONTACT: Thomas E. Salaman, Chicago Airports District Office, (847) 294-7436.

Amendments to PFC Approvals
Amendment Number city, state | Amendment approved date | Original approved net PFC revenue | Amended approved net PFC revenue | Original estimated charge exp. date | Amended estimated charge exp. date
94-01-C-04-TUP, Tupelo, MS * | 01/15/03 | $457,216 | $457,216 | 06/01/03 | 01/01/04
92-01-C-01-1YK, Inyokern, CA | 02/07/03 | 127,500 | 128,874 | 09/01/95 | 09/01/95
95-02-C-01-1YK, Inyokern, CA | 02/07/03 | 248,500 | 166,978 | 12/01/97 | 12/01/97
92-01-C-07-SJC, San Jose, CA | 02/07/03 | 70,558,668 | 70,625,368 | 08/01/95 | 08/01/95
92-02-U-01-SJC, San Jose, CA | 02/07/03 | NA | NA | 08/01/95 | 08/01/95
98-03-C-01-ILM, Wilmington, NC * | 02/11/03 | 8,179,319 | 8,179,319 | 05/01/14 | 05/01/07
99-02-C-01-OKC, Oklahoma City, OK | 02/13/03 | 7,465,206 | 6,747,457 | 04/01/01 | 04/01/01
98-03-C-02-ILM, Wilmington, NC | 02/19/03 | 8,179,319 | 7,984,994 | 05/01/07 | 04/01/07
02-05-C-01-GPT, Gulfport, MS | 02/20/03 | 3,765,993 | 1,031,474 | 06/01/05 | 05/01/03
01-10-C-01-OAK, Oakland, CA * | 02/26/03 | 32,000,000 | 32,000,000 | 10/01/03 | 09/01/03
01-11-C-01-SJC, San Jose, CA | 02/28/03 | 123,736,491 | 118,161,491 | 02/01/08 | 07/01/06
Note: The amendments denoted by an asterisk (*) include a change to the PFC level charged from $3.00 per enplaned passenger to $4.50 per enplaned passenger. For Tupelo, MS, this change is effective on April 1, 2003. For Oakland, CA and Wilmington, NC, this change is effective on May 1, 2003.

Dated: Issued in Washington, DC, on March 20, 2003.
Barry Molar,
Manager, Airports Financial Assistance Division.

[FR Doc. 03-7381 Filed 3-27-03; 8:45 am]

BILLING CODE 4910-13-M